U.S.-CHINA ECONOMIC AND SECURITY REVIEW COMMISSION

Notice of Open Public Hearing

AGENCY: U.S.-China Economic and Security Review Commission.

ACTION: Notice of open public hearing—April 30, 2009, Washington, DC.

SUMMARY: Notice is hereby given of the following hearing of the U.S.-China Economic and Security Review Commission.

Name: Carolyn Bartholomew, Chairman of the U.S.-China Economic and Security Review Commission.

The Commission is mandated by Congress to investigate, assess, and report to Congress annually on “the national security implications of the economic relationship between the United States and the People's Republic of China.”

Pursuant to this mandate, the Commission will hold a public hearing in Washington, DC on April 30, 2009 to address “China's Propaganda and Influence Operations, Its Intelligence Activities that Target the United States, and the Resulting Impacts on U.S. National Security.”

Background

This event is the fourth in a series of public hearings the Commission will hold during its 2009 report cycle to collect input from leading academic, industry, and government experts on national security implications of the U.S. bilateral trade and economic relationship with China. The April 30 hearing will examine China's external propaganda and international public diplomacy efforts, China's efforts to exert influence on U.S. institutions and public opinion, China's espionage and intelligence operations directed at the United States, and China's cyber espionage directed against the United States.

The April 30 hearing will be Co-chaired by Commissioners William A. Reinsch and Peter Brookes.

Information on hearings, as well as transcripts of past Commission hearings, can be obtained from the USCC Web Site http://www.uscc.gov.

Copies of the hearing agenda will be made available on the Commission's Web Site http://www.uscc.gov as soon as available. Any interested party may file a written statement by April 30, 2009, by mailing to the contact below. On April 30, the hearing will be held in two sessions, one in the morning and one in the afternoon. A portion of each panel will include a question and answer period between the Commissioners and the witnesses.

Date and Time: Thursday, April 30, 2009, 8:30 a.m. to 4:30 p.m. Eastern Standard Time. A detailed agenda for the hearing will be posted to the Commission's Web Site at http://www.uscc.gov in the near future.

ADDRESSES: The hearing will be held on Capitol Hill in Room 485 of the Russell Senate Office Building located at Delaware and Constitution Avenues, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via email at kmichels@uscc.gov.

Authority: Congress created the U.S.-China Economic and Security Review Commission in 2000 in the National Defense Authorization Act (Public Law 106-398), as amended by Division P of the Consolidated Appropriations Resolution, 2003 (Pub. L. 108-7), as amended by Public Law 109-108 (November 22, 2005).

Dated: April 8, 2009.
Kathleen J. Michels,
Associate Director, U.S.-China Economic and Security Review Commission.

[FR Doc. E9-8374 Filed 4-10-09; 8:45 am]

BILLING CODE 1137-00-P